DEPARTMENT OF COMMERCE

National Oceanic and Atmospheric Administration

Draft NOAA Scientific Integrity Policy and Handbook; Availability

AGENCY: Office of Oceanic and Atmospheric Research (OAR) National Oceanic and Atmospheric Administration (NOAA), Department of Commerce (DOC).

ACTION: Draft NOAA Scientific Integrity Policy and Handbook for Public Review.

SUMMARY: NOAA's draft scientific integrity policy is available for public review and comment until August 20, 2011. The draft incorporates the principles of scientific integrity contained in the President's March 9, 2009, memorandum and Office of Science and Technology Policy (OSTP) director, John Holdren's December 17, 2010, memorandum on scientific integrity, and addresses how NOAA ensures quality science in its methods, review, and other aspects. NOAA also seeks comments on the accompanying handbook that outlines procedures to respond to allegations of misconduct.

ADDRESSES: Both draft documents can be found electronically at: http://www.noaa.gov/scientificintegrity. Those without computer access can call 301-734-1186 to request a copy of the draft policy and handbook and instructions for returning written comments by U.S. Postal Service.

FOR FURTHER INFORMATION CONTACT: The NOAA Scientific Integrity team at integrity.noaa@noaa.gov.

SUPPLEMENTARY INFORMATION:

Background

The Presidential Memorandum on Scientific Integrity dated March 9, 2009, and the Office of Science and Technology Policy 2010 guidance memorandum on scientific integrity call for ensuring the highest level of integrity in all aspects of the executive branch's involvement with scientific and technological processes.

The draft NOAA policy:

• Lays out formal guidance with a “Code of Conduct”;

• Creates the conditions for enabling first-rate science and guarding against attempts to undermine or discredit it;

• States the key role of science in informing policy;

• Encourages scientists to publish data and findings to advance science, their careers, and NOAA's reputation for reliable science;

• Encourages NOAA scientists to be leaders in the scientific community;

• Provides whistle-blower protection;

• Applies to all NOAA employees and provides applicable policies for contractors and grantees who are engaged in, supervise, or manage scientific activities, analyze and/or publicly communicate information resulting from scientific activities, or use scientific information or analyses in making bureau or office policy, management, or regulatory decisions;

• Includes a training component.

Dated: June 16, 2011.
Terry Bevels,
Deputy Chief Financial Officer, Office of Oceanic and Atmospheric Research, National Oceanic and Atmospheric Administration.

[FR Doc. 2011-15435 Filed 6-20-11; 8:45 am]

BILLING CODE 3510-KD-P